FEDERAL MARITIME COMMISSION

Meetings; Sunshine Act

Agency Holding the Meeting: Federal Maritime Commission.

Time and Date: July 9, 2008—10 a.m.

Place: 800 North Capitol Street, NW., First Floor Hearing Room, Washington, DC.

Status: Closed Session.

Matters To Be Considered:

Closed Session

(1) Export Cargo Issues Status Report.

(2) Internal Administrative Practices and Personnel Matters.

Contact Person for More Information: Karen V. Gregory, Assistant Secretary, (202) 523-5725.

Karen V. Gregory,
Assistant Secretary.

[FR Doc. 08-1414 Filed 7-1-08; 3:15 pm]

BILLING CODE 6730-01-P